CHEMICAL SAFETY AND HAZARD INVESTIGATION BOARD

Sunshine Act Meeting

TIME AND DATE: January 15, 2015, 6:00 p.m.-9:00 p.m. EST.

PLACE: Hilton Meadowlands Hotel, Two Meadowlands Plaza, East Rutherford, New Jersey 07073. Diamond Court Ballrooms A&B.

STATUS: Open to the public.

MATTERS TO BE CONSIDERED: The Chemical Safety and Hazard Investigation Board (CSB) will convene a public meeting on January 15, 2015, starting at 6:00 p.m. at the Hilton Meadowlands Hotel, Two Meadowlands Plaza, Diamond Court Ballrooms A&B, East Rutherford, New Jersey 07073. At the public meeting, the Board will hear from teams investigating the 2012 explosion and fire at the US Ink facility located in East Rutherford, NJ, that injured seven workers. Time permitting, the Board may also consider a report into the CSB's investigation of the 2010 anhydrous ammonia release at Millard Refrigerated Services, a warehouse and distribution center in Theodore, Alabama, near Mobile, Alabama, where more than 130 members of the public sought medical attention as a result of an uncontrolled ammonia release.

This public meeting is intended to provide the community affected by the US Ink explosion and other interested stakeholders, with an opportunity to consider and hear about the CSB staff's findings on this matter. In addition, time permitting, the Board will also consider the staff's presentation and lessons learned resulting from the Millard ammonia release, with information into how these incidents occurred and how similar future incidents can be prevented or mitigated.

Following the staff presentation the Board will hear comments from the public. All staff presentations are preliminary and are intended solely to allow the Board to consider in a public forum the issues and factors involved in these cases. No factual analyses, conclusions, or findings presented by staff should be considered final. At the conclusion of the staff presentation the board may vote on the final product(s).

Lastly, the Board may consider such other items of business as determined by the Chairperson.

Additional Information

The meeting is free and open to the public. If you require a translator or interpreter, please notify the individual listed below as the “Contact Person for Further Information,” at least five business days prior to the meeting.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

Members of the public are invited to make brief statements to the Board at the conclusion of the staff presentation(s). The time provided for public statements will depend upon the number of people who wish to speak. Speakers should assume that their presentations will be limited to five minutes or less, but commenters may submit written statements for the record.

Contact Person for Further Information

Hillary J. Cohen, Communications Manager, hillary.cohen@csb.gov or (202) 446-8094. General information about the CSB can be found on the agency Web site at: www.csb.gov.

Dated: January 5, 2015.
Rafael Moure-Eraso,
Chairperson.

[FR Doc. 2015-00121 Filed 1-6-15; 4:15 pm]

BILLING CODE 6350-01-P